DEPARTMENT OF THE INTERIOR

Geological Survey

National Cooperative Geologic Mapping Program (NCGMP) Advisory Committee

AGENCY: U.S. Geological Survey.

ACTION: Notice of meeting.

SUMMARY: Pursuant to Public Law 106-148, the NCGMP Advisory Committee will meet in Room 3B457 of the John Wesley Powell Building, 12201 Sunrise Valley Drive, Reston, VA. The Advisory Committee, composed of scientists from Federal Agencies, State Agencies, academic institutions, and private companies, will advise the Director of the U.S. Geological Survey on planning and implementation of the geologic mapping program.

At this meeting, the Advisory Committee will participate in the following efforts:

• An external review of the NCGMP by the American Association for the Advancement of Science.

• Discussion with the Program Coordinator on the progress of the USGS National Geological and Geophysical Data Preservation Program.

DATES: October 11-12, 2006 commencing at 9 a.m. on October 11 and adjourning by early afternoon on October 12.

FOR FURTHER INFORMATION CONTACT: Randall Orndorff, U.S. Geological Survey, 908 National Center, Reston, Virginia 20192, (703) 648-4316.

SUPPLEMENTARY INFORMATION: Meetings of the National Cooperative Geological Mapping Program Advisory Committee are open to the Pubic.

Dated: September 13, 2006.
Peter T. Lyttle,
Acting Associate Director for Geology.

[FR Doc. 06-7741 Filed 9-18-06; 8:45 am]

BILLING CODE 4311-AM-M